DEPARTMENT OF COMMERCE

International Trade Administration

19 CFR Part 360

[Docket Number 0809261282-81283-01]

RIN 0625-AA82

Steel Import Monitoring and Analysis System

AGENCY: Import Administration, International Trade Administration, Commerce.

ACTION: Proposed rule.

SUMMARY: The Department of Commerce publishes this proposed rule to request public comment on modifications to the Steel Import Monitoring and Analysis (SIMA) System. These modifications are proposed to extend the current SIMA system until March 21, 2013. This extension would continue the Department's ability to track steel imports and make them publicly available in advance of the full trade data release.

DATES: Comments must be submitted on or before 5 p.m. EST, January 12, 2009.

ADDRESSES: Comments on the SIMA system may be submitted through any of the following:

• Mail: Kelly Parkhill, Director for Industry Support and Analysis, Import Administration, Room 3713, Department of Commerce, 14th and Constitution Ave., NW., Washington, DC 20230.

• E-mail: steel_license@ita.doc.gov. Please state “Comments on the 2008 Proposed Rule” in the subject line.

• Federal e-Rulemaking portal:http://www.regulations.gov.

FOR FURTHER INFORMATION CONTACT: For information on the SIMA system, please contact Kelly Parkhill (202) 482-3791; Julie Al-Saadawi (202) 482-1930.

SUPPLEMENTARY INFORMATION: An interim final rule revising part 360 was published in the Federal Register March 11, 2005, 70 FR 12136. On December 5, 2005, the Department of Commerce published its final rule on the current SIMA system (70 FR 72373). Under the final rule, the system expires on March 21, 2009, unless extended upon review and notification in the Federal Register.

The purpose of the SIMA system is to provide steel producers, steel consumers, importers, and the general public with accurate and timely information on anticipated imports of certain steel products. Import licenses, obtained through the Internet-based SIMA licensing system, are required on U.S. imports of basic steel mill products. Aggregate import data obtained from the licenses is updated weekly and posted on the SIMA Web site monitor. Details of the current system can be found at http://ia.ita.doc.gov/steel/license/.

Proposal: The Department proposes to extend the SIMA system beyond its current expiration date for an additional period of four years (see 19 CFR part 360).

All comments responding to this notice will be a matter of public record and available for public inspection and copying at Import Administration's Central Records Unit, Room 1117, between the hours of 8:30 a.m. and 5 p.m. on business days.

Classification

Regulatory Flexibility Act. The Chief Counsel for Regulation of the Department of Commerce certified to the Chief Counsel for Advocacy of the Small Business Administration that this proposed rule, if adopted, would not have a significant economic impact on a substantial number of small entities as that term is defined in the Regulatory Flexibility Act, 5 U.S.C. 601 et seq. A summary of the factual basis for this certification is below.

This proposed rule will not have a significant economic impact on a substantial number of companies. Companies are already familiar with the licensing of certain steel products under the current system. In most cases, brokerage companies will apply for the license for the steel importers. Most brokerage companies that are currently involved in filing documentation for importing goods into the U.S., are accustomed to Customs and Border Protection's automated systems. Today, more than 99% of the Customs filings are handled electronically. Therefore, the Web-based nature of this simple license application should not be a significant obstacle to any firm in completing this requirement. However, should a company need to apply for an ID or license non-electronically, a fax/phone option will be available at Commerce during regular business hours. There is no cost to register for a company-specific ID user code and no cost to file for the license. Each license form is expected to take less than 10 minutes to complete using much of the same information used to complete the Customs Entry Summary documentation. This is the one additional requirement of the importers or their representative to fulfill U.S. entry requirements to import each covered steel product shipment. Commerce estimates that fewer than five percent of the licenses would be filed by brokerage companies or other businesses that would be considered small entities. Therefore, Commerce estimates that the likely aggregate license costs attributable to small entities would be one percent of the estimated total $2,000,000 cost to all steel importers, or $20,000 would represent the cost that small entities will incur as a result of this proposed rule.

Paperwork Reduction Act. This proposed rule contains collection-of-information requirements subject to review and approval by OMB under the Paperwork Reduction Act (PRA). These requirements have been approved by OMB (OMB No.: 0625-0245; Expiration Date: 09/30/2011). Public reporting for this collection of information is estimated to be less than 10 minutes per response, including the time for reviewing instructions, and completing and reviewing the collection of information.

Paperwork Reduction Act Data:

OMB Number: 0625-0245.

ITA Number: ITA-4141P.

Type of Review: Regular Submission.

Affected Public: Business or other for-profit.

Estimated Number of Registered Users: 3,500.

Estimated Time per Response: Less than 10 minutes.

Estimated Total Annual Burden Hours: 100,000 hours.

Estimated Total Annual Costs: $2,000,000.

Notwithstanding any other provision of law, no person is required to respond to nor shall a person be subject to a penalty for failure to comply with a collection of information subject to the requirements of the Paperwork Reduction Act unless that collection of information displays a current valid OMB Control Number.

Executive Order 12866

This rule has been determined to be significant for purposes of Executive Order 12866.

Executive Order 13132

This rule does not contain policies with federalism implications as that term is defined in EO 13132.

List of Subjects in 19 CFR Part 360

Administrative practice and procedure, Business and industry, Imports, Reporting and recordkeeping requirements, Steel.

For reasons discussed in the preamble, we propose amending 19 CFR 360 as follows:

PART 360—STEEL IMPORT MONITORING AND ANALYSIS SYSTEM

1. The authority citation for part 360 continues to read as follows:

Authority: 13 U.S.C. 301(a) and 302.

2. Section 360.105 is revised to read as follows.

§ 360.105 Duration of the steel import licensing requirement.

The licensing program will be in effect through March 21, 2013, but may be extended upon review and notification in the Federal Register prior to this expiration date. Licenses will be required on all subject imports entered during this period, even if the entry summary documents are not filed until after the expiration of this program. The licenses will be valid for 10 business days after the expiration of this program to allow for the final filing of required Customs documentation.

Dated: November 26, 2008.
Christopher A. Padilla,
Under Secretary for International Trade.

[FR Doc. E8-28683 Filed 12-11-08; 8:45 am]

BILLING CODE 3510-DS-P